DEPARTMENT OF THE INTERIOR

Bureau of Land Management

[NV-060-1990]

Notice of Intent To Prepare an Environmental Impact Statement To Analyze the Proposed Mount Hope Project Plan of Operations (NVN-082096) for the Mount Hope Molybdenum Mine

AGENCY: Bureau of Land Management.

ACTION: Notice of Intent.

SUMMARY: Pursuant to section 102(2)(c) of the National Environmental Policy Act of 1969, 40 Code of Federal Regulations (CFR) subparts 1500-1508, and 43 CFR subpart 3809, notice is hereby given that the Bureau of Land Management (BLM), Battle Mountain Field Office will be preparing an Environmental Impact Statement (EIS) for the Mount Hope Project, a proposed open pit molybdenum mine, mill, and associated facilities, located on public and private lands in Eureka County, Nevada.

DATES: This notice initiates the public scoping period. Written comments on the scope of the EIS should be post-marked or hand delivered to the BLM Battle Mountain Field Office by 4:30 p.m., no later than 30 days after the date of publication in the Federal Register to ensure full consideration. The public will be notified of scoping meetings through the local news media at least 15 days prior to the first meeting. It is anticipated at least two scoping meetings (in Eureka and Battle Mountain, Nevada) will be held during this scoping period.

ADDRESSES: Written scoping comments should be sent to the BLM, Battle Mountain Field Office, 50 Bastian Road, Battle Mountain, Nevada 89820, ATTN: Angelica Ordaz. Written comments may also be faxed to Angelica Ordaz at (775) 635-4034, or submitted in writing to the BLM at one of the scoping meetings.

FOR FURTHER INFORMATION CONTACT: For further information and/or to have your name added to our mailing list, contact Angelica Ordaz, Planning and Environmental Coordinator at the BLM Battle Mountain Field Office, or by telephone at (775) 635-4000.

SUPPLEMENTARY INFORMATION: Idaho General Mines, Inc. (IGMI) has submitted a Plan of Operations (NVN-082096) to the BLM for the proposed mining project. Pursuant to Council on Environmental Quality (CEQ) regulations 1502.14(a) and 1502.14(d), in addition to the proposed action, the BLM will explore and objectively evaluate all reasonable alternatives, including the alternative of no action. The reasonable range of alternatives will include an analysis of the feasibility to back fill or partially back fill the mined out pits.

The Mount Hope Project Plan of Operations (Plan) will be presented to the public during scoping meetings, and informational letters on the Plan will be mailed to interested parties. The Plan will be available for public review at BLM's Battle Mountain Field Office. The BLM invites public comment on the scope of the analysis, including issues to consider and alternatives to the proposed action. The purpose of the public scoping process is to determine relevant issues that will influence the scope of the environmental analysis and EIS alternatives. BLM personnel will be present at the scoping meetings to explain the environmental review process, the mining regulations, and other requirements for processing the proposed Plan and the associated EIS. Representatives of IGMI will also be available to describe their proposal.

You may submit comments on issues in writing to the BLM at the public scoping meetings, or you may submit them to the BLM using one of the methods listed in the ADDRESSES section above. Before including your address, phone number, email address, or other personal identifying information in your comment, be advised that your entire comment—including your personal identifying information—may be made publicly available at any time. While you can ask us in your comment to withhold from public review your personal identifying information, we cannot guarantee that we will be able to do so. To be most helpful, formal scoping comments should be submitted within 30 days after the date of publication of this notice, although comments will be accepted throughout the development of the EIS. Comments received and a list of attendees for each scoping meeting will be made available for public inspection and open for 30 days following each meeting for any participant(s) who wish to clarify their views. Comments and documents pertinent to this proposal, including names and street addresses of respondents, may be examined at the Battle Mountain Field Office during regular business hours (7:30 a.m.-4:30 p.m. Monday through Friday, except holidays). Comments may be published as part of the EIS.

The proposed project would be located in north-central Nevada approximately 23 miles northwest of the town of Eureka in Townships 20, 21, 22, and 23 North, Ranges 51 and 52 East. The project would involve both public and private lands in Eureka County, Nevada. The project would involve the construction and development of the following primary components: An open pit for development of the Mount Hope ore body with an in-pit groundwater dewatering system; waste rock stockpiles; high grade and low grade ore stockpiles; ancillary facilities (maintenance shop, administrative facilities, and fuel and lubricant storage facilities); primary crusher; conveyor system; crushed ore stock pile area and ore reclaim system; a mill and flotation circuit including reagent storage, offices and a laboratory, warehouse, and laydown yards; north and south tailings storage facilities; a molybdenite concentrate roaster; water supply well(s) and associated rights-of-way for access roads, power lines, and pipelines; relocation of existing Falcon to Gonder 230-kV transmission line segments in the project area; installation of a 120-kV transmission line and substation; construction of a landfill, haul, secondary, access, and exploration roads; and ancillary facilities including growth media stockpiles, diversion ditches, and stormwater runoff controls.

The mine and milling facility would operate for approximately 53 years. During the first 12 years, the milling rate would be 44,100 tons per day and would increase to 55,100 tons per day for years 12 through 53. The roaster would convert molybdenum disulfide (MoS2) to technical grade molybdenum oxide (MoO3). Up to 100 tons of molybdenite concentrate per day would be processed through the roaster. Concurrent reclamation would be conducted during the 53-year operating period as mining in an area is completed. Site closure and final reclamation would be undertaken at the end of mining and milling.

An interdisciplinary approach will be used to develop the EIS, in order to consider the variety of resource issues and concerns identified. Potential significant direct, indirect, residual, and cumulative impacts from the proposed action will be analyzed in the EIS. Significant issues to be addressed in the EIS include in-pit dewatering activities, Native American religious concerns, visual resources, and socioeconomics. Additional issues may be identified during the scoping process. Federal, State, and local agencies, as well as individuals or organizations that may be interested in or affected by the BLM's decision on this Plan of Operations are invited to participate in the scoping process and, if eligible, may request or be requested by the BLM to participate as a cooperating agency. The Nevada Department of Wildlife and Eureka County will participate as cooperating agencies for this project.

Dated: January 3, 2007.
Gene Seidlitz,
Associate Field Manager, Battle Mountain Field Office.

[FR Doc. E7-3643 Filed 3-1-07; 8:45 am]

BILLING CODE 4310-HC-P